DEPARTMENT OF VETERANS AFFAIRS

Geriatrics and Gerontology Advisory Committee; Notice of Meeting—Correction (81 FR 10370)

The Department of Veterans Affairs (VA) gives notice under the Federal Advisory Committee Act, 5 U.S.C. App. 2, that a meeting of the Geriatrics and Gerontology Advisory Committee will be held on April 19-20, 2016, in Conference Room 730 at the Department of Veterans Affairs, 810 Vermont Avenue NW., Washington, DC. The Notice of Meeting appeared in the Federal Register on February 29, 2016 (81 FR 10370) on page 10370. The Notice of Meeting should have read: On April 19, the session will begin at 8:30 a.m. and end at 5:00 p.m. On April 20, the session will begin at 8:00 a.m. and end at noon. This meeting is open to the public.

Interested parties should contact Mrs. Marcia Holt-Delaney, Program Analyst, Geriatrics and Extended Care Services (10P4G), Department of Veterans Affairs, 810 Vermont Avenue NW., Washington, DC 20420, or via email at Marcia.Holt-Delaney@va.gov. Individuals who wish to attend the meeting should contact Mrs. Holt-Delaney at (202) 461-6769.

Dated: March 14, 2016.
Jelessa Burney,
Federal Advisory Committee Management Officer.

[FR Doc. 2016-06007 Filed 3-16-16; 8:45 am]

BILLING CODE P